Presidential Determination No. 03-06 of December 7, 2002

Presidential Determination on Authorization to Furnish Drawdown Assistance to the Iraqi Opposition Under the Iraq Liberation Act of 1998

Memorandum for the Secretary of State [and] the Secretary of Defense

Pursuant to the authority vested in me as President of the United States, including under sections 4(a)(2) and 5(a) of the Iraq Liberation Act of 1998 (Public Law 105-338) (the “Act”), and consistent with Presidential Determination 99-13, I hereby direct the furnishing of up to $92 million in defense articles from the Department of Defense, defense services from the Department of Defense, and military education and training in order to provide assistance to the following organizations:

Iraqi National Accord;

Iraqi National Congress;

Kurdistan Democratic Party;

Movement for Constitutional Monarchy;

Patriotic Union of Kurdistan;

Supreme Council of the Islamic Revolution in Iraq;

and to such other Iraqi opposition groups designated by me under the Act before or after this determination. The assistance will be allocated in accordance with plans being developed by the Department of Defense and the Department of State.

The Secretary of State is authorized and directed to report this determination to the Congress and to arrange for its publication in the Federal Register.

B

THE WHITE HOUSE,

Washington, December 7, 2002.

[FR Doc. 02-32421

Filed 12-20-02; 8:45 am]

Billing code 4710-10-P